OFFICE OF THE UNITED STATES TRADE REPRESENTATIVE

[Docket Number USTR-2017-0011]

Request for Comments and Notice of Public Hearing Concerning China's Compliance With WTO Commitments

AGENCY: Office of the United States Trade Representative.

ACTION: Request for comments and notice of public hearing.

SUMMARY: The interagency Trade Policy Staff Committee (TPSC) is seeking comments and will convene a public hearing to assist the Office of the United States Trade Representative (USTR) to prepare its annual report to Congress on China's compliance with the commitments made in connection with its accession to the World Trade Organization (WTO).

DATES: September 20, 2017: Deadline for filing requests to appear and a summary of expected testimony at the October 4, 2017 public hearing, and for filing pre-hearing briefs, statements, or comments concerning China's compliance with WTO commitments.

October 4, 2017: The TPSC will convene a public hearing in Washington, DC concerning China's compliance with WTO commitments.

ADDRESSES: USTR strongly prefers electronic submissions made through the Federal eRulemaking Portal: http://www.regulations.gov. Follow the instructions for submitting comments in section 3 below. The docket number is USTR-2017-0011. For alternatives to on-line submissions, please contact Yvonne Jamison, Trade Policy Staff Committee, at (202) 395-3475.

FOR FURTHER INFORMATION CONTACT: For procedural questions concerning written comments or participation in the public hearing, contact Yvonne Jamison at (202) 395-3475. Direct all other questions to Terrence J. McCartin, Acting Assistant United States Trade Representative for China Affairs, at (202) 395-3900, or Philip D. Chen, Chief Counsel for China Enforcement, at (202) 395-3150.

SUPPLEMENTARY INFORMATION:

1. Background

China became a Member of the WTO on December 11, 2001. In accordance with section 421 of the U.S.-China Relations Act of 2000 (Pub. L. 106-286), by December 11th of each year USTR has to submit a report to Congress on China's compliance with commitments made in connection with its accession to the WTO, including both multilateral commitments and any bilateral commitments made to the United States. In accordance with section 421, and to assist in preparing this year's report, the TPSC is soliciting public comments. You can view last year's report on USTR's Web site: https://ustr.gov/sites/default/files/2015-Report-to-Congress-China-WTO-Compliance.pdf.

The terms of China's accession to the WTO are contained in the Protocol on the Accession of the People's Republic of China (including its annexes) (Protocol), the Report of the Working Party on the Accession of China (Working Party Report), and the WTO agreements. You can find the Protocol and Working Party Report on the WTO Web site: http://docsonline.wto.org (document symbols: WT/L/432, WT/MIN(01)/3, WT/MIN(01)/3/Add.1, WT/MIN(01)/3/Add.2).

2. Public Comments and Hearing

USTR invites written comments and/or oral testimony on China's compliance with commitments made in connection with its accession to the WTO, including, but not limited to, commitments in the following areas:

a. Trading rights.

b. Import regulation (e.g., tariffs, tariff-rate quotas, quotas, import licenses);

c. Export regulation.

d. Internal policies affecting trade (e.g., subsidies, standards and technical regulations, sanitary and phytosanitary measures, government procurement, trade-related investment measures, taxes and charges levied on imports and exports).

e. Intellectual property rights (including intellectual property rights enforcement).

f. Services.

g. Rule of law issues (e.g., transparency, judicial review, uniform administration of laws and regulations) and status of legal reform.

h. Other WTO commitments.

In addition, given the United States' view that China should be held accountable as a full participant in, and beneficiary of, the international trading system, USTR requests that commenters specifically identify unresolved compliance issues that warrant review and evaluation by USTR's China Enforcement Task Force.

We must receive written comments no later than Wednesday, September 20, 2017.

The TPSC will convene a public hearing on Wednesday, October 4, 2017. If necessary, the hearing will continue on the next business day. The hearing will be held at 1724 F Street NW., Washington, DC 20508 and will be open to the public and to the press. We must receive your written requests to present oral testimony at the hearing and pre-hearing briefs, statements, or comments by Wednesday, September 20, 2017. You must make the intent to testify notification in the “Type Comment” field under docket number USTR-2017-0011 on the www.regulations.gov Web site and you should include the name, address, telephone number and email address, if available, of the person presenting the testimony. You should attach a summary of the testimony by using the “Upload File” field. The name of the file also should include who will be presenting the testimony. Remarks at the hearing should be limited to no more than five minutes to allow for possible questions from the TPSC.

You should submit all documents in accordance with the instructions in section 3 below.

We will make a transcript of the hearing available on www.regulations.gov within approximately two weeks of the date of the hearing.

3. Requirements for Submissions

In order to be assured of consideration, we must receive your written comments and notifications of intent to testify in English by Wednesday, September 20, 2017. USTR strongly encourages commenters to make on-line submissions, using the www.regulations.gov Web site. On the first page of the submission, please identify it as “China's WTO Compliance.”

To submit comments via www.regulations.gov, enter docket number USTR-2017-0011 on the home page and click “search.” The site will provide a search-results page listing all documents associated with this docket. Find a reference to this notice and click on the link entitled “Comment Now!” For further information on using the www.regulations.gov Web site, please consult the resources provided on the Web site by clicking on “How to Use Regulations.gov” on the bottom of the home page. We will not accept hand-delivered submissions.

The www.regulations.gov Web site allows users to submit comments by filling in a “Type Comment” field or by attaching a document using an “Upload File” field. USTR prefers that you submit comments in an attached document. If you attach a document, it is sufficient to type “See attached” in the “Type Comment” field. USTR prefers submissions in Microsoft Word (.doc) or Adobe Acrobat (.pdf). If you use an application other than those two, please indicate the name of the application in the “Type Comment” field.

For any comments submitted electronically containing business confidential information, the file name of the business confidential version should begin with the characters “BC”. Any page containing business confidential information must be clearly marked “BUSINESS CONFIDENTIAL” on the top of that page. Filers of submissions containing business confidential information also must submit a public version of their comments that we will place in the docket for public inspection. The file name of the public version should begin with the character “P”. The “BC” and “P” should be followed by the name of the person or entity submitting the comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through www.regulations.gov. You must make any alternative arrangements with Yvonne Jamison in advance of transmitting a comment. You can contact Ms. Jamison at (202) 395-3475. General information concerning USTR is available at www.ustr.gov.

We will post comments in the docket for public inspection, except business confidential information. You can view comments on the www.regulations.gov Web site by entering the relevant docket number in the search field on the home page.

Edward Gresser,
Chair, Trade Policy Staff Committee, Office of the United States Trade Representative.

[FR Doc. 2017-16204 Filed 8-1-17; 8:45 am]

BILLING CODE 3290-F7-P